DEPARTMENT OF AGRICULTURE

Natural Resources Conservation Service

7 CFR Part 625

RIN 0578-AA52

Healthy Forests Reserve Program

AGENCY: Natural Resources Conservation Service (NRCS), United States Department of Agriculture (USDA).

ACTION: Proposed rule; Reopening public comments.

SUMMARY: On January 14, 2009, NRCS published in the Federal Register a proposed rule for the Healthy Forests Reserve Program (HFRP) with a public comment period closing on February 13, 2009. The proposed rule included changes to address amendments to HFRP associated with enactment of the Food, Conservation, and Energy Act of 2008. NRCS is hereby reopening the public comment period for the HFRP proposed rule and amending the closing date to March 20, 2009.

DATES: Comments to the HFRP proposed rule, published in the Federal Register on January 14, 2009 (74 FR 1954) must be received on or before March 20, 2009.

ADDRESSES: You may send comments using any of the following methods:

• Government-wide rulemaking Web site: Go to http://www.regulations.gov and follow the instructions for sending comments electronically.

• NRCS Web site: Go to http://www.nrcs.usda.gov and follow the instructions for sending comments electronically.

• Mail: Easements Programs Division, Natural Resources Conservation Service, Healthy Forests Reserve Program Comments, P.O. 2890, Room 6819-S, Washington, DC 20013.

• Fax: 1-202-720-4265.

• Hand Delivery: Room 6819-S of the USDA South Office Building, 1400 Independence Avenue, SW., Washington, DC 20250, between 9 a.m. and 4 p.m., Monday through Friday, except Federal holidays. Please ask the guard at the entrance to the South Office Building to call 202-720-4527 in order to be escorted into the building.

• This proposed rule may be accessed via Internet. Users can access the NRCS homepage at http://www.nrcs.usda.gov/; select Farm Bill link from the menu; select the Proposed Rule link from beneath the Rules Index title. Persons with disabilities who require alternative means for communication (Braille, large print, audiotape, etc.) should contact the USDA Target Center at (202) 720-2600 (voice and TDD).

FOR FURTHER INFORMATION CONTACT: Director, Easement Programs Division, NRCS, P.O. Box 2890, Washington, DC 20013-2890; Phone: (202) 720-1854; Fax: (202) 720-4265; or e-mail: HFRP@wdc.usda.gov.

Persons with disabilities who require alternative means for communication (Braille, large print, audiotape, etc.) should contact the USDA Target Center at (202) 720-2600 (voice and TDD).

Signed this 11th day of February 2009, in Washington, DC.
Dave White,
Acting Vice President, Commodity Credit Corporation and Acting Chief, Natural Resources Conservation Service.

[FR Doc. E9-3354 Filed 2-17-09; 8:45 am]

BILLING CODE 3410-16-P